DEPARTMENT OF AGRICULTURE

Submission for OMB Review; Comment Request

February 6, 2019.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by March 13, 2019 will be considered. Written comments should be addressed to: Desk Officer for Agriculture, Office of Information and Regulatory Affairs, Office of Management and Budget (OMB), New Executive Office Building, 725—17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Nomination Request Form; Animal Disease Training.

OMB Control Number: 0579-0353.

Summary of Collection: The Animal Health Protection Act of 2002 is the primary Federal law governing the protection of animal health. The law gives the Secretary of Agriculture broad authority to detect, control, eradicate pests or diseases of livestock or poultry. The Animal and Plant Health Inspection Service (APHIS') Veterinary Services (VS) is responsible for administering regulations intended to prevent the introduction of animal diseases into the United States. VS Professional Development Branch (PDS) provides vital training to private veterinarians and State, Tribal, Industry, and university personnel which prepare them for animal disease response. To determine the need and demand for such courses, PDS must collect information from individuals who wish to attend training events facilitated by PDS.

Need and Use of the Information: VS collects information using VS Form 1-5 from private veterinarians as well as State, Tribal, military, international, university, and industry personnel who want to attend PDS animal disease training. PDS requires the applicants' work addresses, work telephone numbers, work email addresses, agency/organization affiliations, supervisors' names and email addresses, and job titles. PDS uses this information to produce participant rosters after participants select courses and during training to encourage ongoing working relationships between course participants. Applicants submit the completed form (Web-based) before the PDS course date. The appropriate APHIS official selects applicants based on the need in their respective States for such trained personnel. VS Form 1-5 is subsequently sent to a PDS Program Specialist for processing.

Description of Respondents: Business or other for-profit; State, Local or Tribal Government.

Number of Respondents: 350.

Frequency of Responses: Recordkeeping; Reporting: On occasion.

Total Burden Hours: 116.

Ruth Brown,
Departmental Information Collection Clearance Officer.

[FR Doc. 2019-01801 Filed 2-8-19; 8:45 am]

BILLING CODE 3410-34-P